GENERAL ACCOUNTING OFFICE

Commercial Activities Panel Hearings

AGENCY: General Accounting Office.

ACTION: Notice of public hearings.

SUMMARY: Section 832 of the National Defense Authorization Act for Fiscal Year 2001 requires the Comptroller General of the United States to convene a panel of experts to study the transfer of commercial activities currently performed by government employees to federal contractors, a procedure commonly known as “contracting out” or “outsourcing.” This notice announces two public hearings to be held by the Commercial Activities Panel (“the Panel”).

DATES: The Commercial Activities Panel will hold a public hearing in Indianapolis, Indiana, on August 8, 2001, beginning at 8:30 a.m. in the University Place Conference Center and Hotel at Indiana University-Purdue University Indianapolis. Another hearing will be held on August 15 beginning at 8:30 a.m. in the Fiesta Ballroom of the Lackland Gateway Club at Lackland Air Force Base in San Antonio, Texas. Individuals or groups wishing to attend or participate in either of the hearings should notify the Panel and submit written summaries of their statements by July 25 for the Indianapolis hearing and by August 1 for the San Antonio hearing.

ADDRESSES: Submit requests to attend or participate in the hearings, written summaries of oral statements, and any other relevant materials via E-mail to A76panel@gao.gov.

FOR FURTHER INFORMATION CONTACT: Debra McKinney at (202) 512-8517 or McKinneyD@gao.gov regarding the Indianapolis, Indiana, hearing; and Marilyn Wasleski at (202) 512-8436 or WasleskiM@gao.gov regarding the San Antonio, Texas, hearing.

SUPPLEMENTARY INFORMATION: Section 832 of the Floyd D. Spence National Defense Authorization Act for Fiscal Year 2001, Public Law 106-398, Oct. 30, 2000, directs the Comptroller General of the United States to convene a panel of experts to study the policies and procedures governing the transfer of commercial activities for the federal government from government personnel to a federal contractor. The Panel's study is to include a review of: (1) Procedures for determining whether functions should continue to be performed by government personnel; (2) procedures for comparing the costs of performing functions by government personnel with the costs of performing those functions by federal contractors; (3) implementation by the Department of Defense of the Federal Activities Inventory Reform (FAIR) Act of 1998 (Pub. L. 105-270, 112 Stat. 2382, 31 U.S.C. 501 note); and (4) procedures of the Department of Defense for public-private competitions under Office of Management and Budget (OMB) Circular A-76. Formation of the Panel was announced in the Federal Register on April 17, 2001 (66 FR 19786). By May 1, 2002, the Comptroller General must submit to Congress a report of the Panel on the results of the study, including recommended changes with regard to implementing policies and enactment of legislation.

During the course of its work, the Panel will hold several public hearings. Interested parties are invited to attend these hearings to provide their perspectives on sourcing issues. On June 11, 2001, the GAO held its first public hearing, which focused on the principles and policies underlying outsourcing. The second public hearing will be held on August 8, 2001, beginning at 8:30 a.m. in the University Place Conference Center and Hotel on the Indiana University-Purdue University Indianapolis Campus, 850 West Michigan Street, Indianapolis, Indiana. The focus of this hearing will be on alternatives to the current outsourcing processes. The third hearing will be held on August 15 beginning at 8:30 a.m. in the Fiesta Ballroom of the Lackland Gateway Club, Building 2490, on Kenly Avenue at Lackland Air Force Base, San Antonio, Texas. This hearing will address current processes, such as OMB Circular A-76, public-private competitions, and the FAIR Act.

Any party who would like to attend either of the August hearings or make a presentation should contact the following E-mail address: A76panel@gao.gov. Those who wish to make presentations at either hearing should submit written summaries of their oral statements via the same E-mail address. These summaries must be received in our Office by July 25, 2001, for the Indianapolis hearing and by August 1, 2001, for the San Antonio hearing. The Panel will attempt to accommodate all interested parties who respond before these deadlines. Presenters must be prepared to limit their oral statements to 3 to 5 minutes. Interested parties who would like to make electronic presentations during the hearings must indicate their desire to do so by the July 25 deadline for the Indianapolis hearing and by the August 1 deadline for the San Antonio hearing. If time permits, individuals with no prepared statements will be given the opportunity to speak, but the Panel may not be able to accommodate all such requests. Any individual who would like to attend the hearing at Lackland Air Force Base must present at any of its gates on the hearing date: (1) A picture identification (such as a driver's license), and (2) proof of automobile insurance, if driving a vehicle. The gate located closest to the Lackland Gateway Club is the Luke East Gate on Military Drive, which intersects U.S. Highway 90. More detailed guidance on hearing procedures will be provided to presenters by E-mail in advance of the hearings. Any interested party may submit full statements for inclusion in the hearing records by 5:30 p.m. on August 22. The hearings will be transcribed.

Further information, including hearing transcripts and copies of statements by all presenters, will be available on the GAO website, www.gao.gov, by clicking on “Commercial Activities Panel.”

Jack L. Brock, Jr.,
Managing Director, Acquisition and Sourcing Management, General Accounting Office.

[FR Doc. 01-17270 Filed 7-10-01; 8:45 am]

BILLING CODE 1610-02-P